DEPARTMENT OF TRANSPORTATION

Federal Highway Administration

Notice of Final Federal Agency Actions on Proposed SR-374 Project in Tennessee

AGENCY: Federal Highway Administration (FHWA), Department of Transportation (DOT).

ACTION: Notice of limitation on claims for judicial review of actions by FHWA and other Federal agencies.

SUMMARY: This notice announces actions taken by FHWA and other Federal agencies that are final. The actions relate to a proposed highway project, State Route (SR) 374 from SR-149 at River Road to SR-76/US-79 (Dover Road) in Montgomery County, Tennessee. Those actions grant licenses, permits, and approvals for the project.

DATES: By this notice, FHWA is advising the public of final agency actions subject to 23 U.S.C. 139(l)(1). A claim seeking judicial review of the Federal agency actions on the highway project will be barred unless the claim is filed on or before January 22, 2021. If the Federal law that authorizes judicial review of a claim provides a time period of less than 150 days for filing such claim, then that shorter time period still applies.

FOR FURTHER INFORMATION CONTACT: For FHWA: Ms. Theresa Claxton; Program Development Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). For the Tennessee Department of Transportation contact Ms. Susannah Kniazewycz, Environmental Division Director, Tennessee Department of Transportation (TDOT), James K. Polk Building, Suite 900, 505 Deaderick Street, Nashville, Tennessee 37243-0334; Telephone (615) 741-3655, Susannah.Kniazewycz@tn.gov. The TDOT Environmental Division's normal business hours are 8 a.m. to 5 p.m. (Central Time).

SUPPLEMENTARY INFORMATION: Notice is hereby given that FHWA and other Federal agencies have taken final agency actions subject to 23 U.S.C. 139 (l)(1) by issuing licenses, permits, and approvals for the following highway project in the State of Tennessee: SR-374, Project Number HPP/STP-374(14), PIN 101463.04, Montgomery County, Tennessee. The proposed action will enhance corridor linkages within the Clarksville area and will improve mobility around Clarksville. The Selected Alternative proposes the improvement of SR-149 and the extension of SR-374 on new location. The Selected Alternative proposes widening SR-149 to two 12-foot travel lanes in each direction, with a 12-foot continuous center turn lane and 12-foot shoulders from River Road to approximately 1,700 feet west of Cumberland Heights Road. The Selected Alternative proposes extending SR-374 on new location from SR-149 to the existing SR-76/US-79 (Dover Road)/SR-374 (Paul B. Huff Memorial Parkway) interchange. The extension of SR-374 will include two travel lanes in each direction, a 48-foot median, 12-foot outside shoulders, and 6-foot inside shoulders. Two new bridges will be constructed: One over the Memphis Line of the R.J. Corman Railroad and another over the Cumberland River.

The actions by the Federal agencies, and the laws under which such actions were taken, are described in the Environmental Assessment (EA) for the project, approved on January 2, 2019, in the FHWA Finding of No Significant Impact (FONSI) issued on July 6, 2020, and in other documents in the FHWA project records. The EA, FONSI, and other project records are available by contacting the FHWA or TDOT at the addresses provided above. The FHWA EA and FONSI can be viewed and downloaded from the project website at https://www.tn.gov/tdot/projects/region-3/state-route-374.html, or viewed at the Clarksville-Montgomery County Public Library, 350 Pageant Lane, Suite 501, Clarksville, Tennessee 37040.

This notice does not apply to the Tennessee Valley Authority (T.V.A.), or the U.S. Army Corps of Engineers (U.S.A.C.E.) permitting processes for this project, because no T.V.A. or U.S.A.C.E. permits have been issued for the project to date.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

(Authority: 23 U.S.C. 139(l)(1))

Issued on: August 18, 2020.
Pamela M. Kordenbrock,
Division Administrator, Nashville, Tennessee.

[FR Doc. 2020-18505 Filed 8-24-20; 8:45 am]

BILLING CODE 4910-RY-P